INTERNATIONAL TRADE COMMISSION

[Investigation No. 337-TA-489]

Certain Sildenafil or Any Pharmaceutically Acceptable Salt Thereof, Such as Sildenafil Citrate, and Products Containing Same; Notice of Investigation

AGENCY: U.S. International Trade Commission.

ACTION: Institution of investigation pursuant to 19 U.S.C. 1337.

SUMMARY: Notice is hereby given that a complaint was filed with the U.S. International Trade Commission on January 29, 2003 under section 337 of the Tariff Act of 1930, as amended, 19 U.S.C. 1337, on behalf of Pfizer, Inc. of New York, New York. A supplement to the complaint was filed on February 27, 2003. The complaint, as supplemented, alleges violations of section 337 in the importation into the United States, the sale for importation, and the sale within the United States after importation of certain sildenafil or any pharmaceutically acceptable salt thereof, such as sildenafil citrate, and products containing same by reason of infringement of claims 1-5 of U.S. Patent No. 5,250,534. The complaint further alleges that there exists an industry in the United States as required by subsection (a)(2) of section 337.

The complainant requests that the Commission institute an investigation and, after the investigation, issue a permanent general exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Thomas S. Fusco, Esq., Office of Unfair Import Investigations, U.S. International Trade Commission, telephone 202-205-2571.

Authority: The authority for institution of this investigation is contained in section 337 of the Tariff Act of 1930, as amended, and in section 210.10 of the Commission's Rules of Practice and Procedure, 19 CFR 210.10 (2002).

Scope of Investigation: Having considered the complaint, the U.S. International Trade Commission, on February 27, 2003, ordered that—

(1) Pursuant to subsection (b) of section 337 of the Tariff Act of 1930, as amended, an investigation be instituted to determine whether there is a violation of subsection (a)(1)(B) of section 337 in the importation into the United States, the sale for importation, or the sale within the United States after importation of certain sildenafil or any pharmaceutically acceptable salt thereof, such as sildenafil citrate, or products containing same by reason of infringement of claim 1, 2, 3, 4, or 5 of U.S. Patent No. 5,250,534, and whether an industry in the United States exists as required by subsection (a)(2) of section 337.

(2) For the purpose of the investigation so instituted, the following are hereby named as parties upon which this notice of investigation shall be served:

(a) The complainant is: Pfizer, Inc., 235 East 42nd Street, New York, New York 10017.

(b) The respondents are the following companies upon which the complaint is to be served:

Planet Pharmacy, 13.5 Miles Northern Highway, Burrell Boom Cutoff, Ladyville, Belize

LTMC, Ltd., Tumkin 9, Tel Aviv, Israel 99999

Investment and Future Development Corp. SA, Calle Las Acacias, Regina, Diriamba, Nicaragua

Aleppo Pharmaceutical Industries, Baron Street, P.O. Box 517, Aleppo, Syria

Biovea, 56 Gloucester Road, Suite 524, Kensington, London SW7 4UB, England

#1 Aabaaca Viagra LLC, 350 South Center, Reno, NV 99502

Ezee Soulnature Healthcare Pvt. Ltd., J-195 Saket, New Delhi 110017, India

Zhejiang Medicines & Health Products Import & Export Co. Ltd., ZMC Building, 101-2 N. Zhongsan Road, Hangzhou, 310003, China

Jiangxi Jilin Chemical Corp. Ltd., Jingxi Dingfen Street 346 fl., Nanchang, Fujian 2564892, China

Tianjin Shuaike Chemical Co. Ltd., PO Box 4618, Yangliuqing, Xiqing District, Tianjin 300380, China

Lianyungang Foreign Trade Corp., Foreign Trade Bldg., No. 9 East Hailan Rd., Xinpu, Lianyungang, Jiangsu, China

Sino Health Care Company of Sichuan, 2-5# 10th Building, Qingyang Dong 1 lu., Chengdu, Sichuan 610072, China

China Jingsu International, 37 Hua Qiao Road, Nanjing 210029, China

Yiho Export & Import Co. Ltd., Nanjing Office, Rm. 302, No. 43-1 Qingliang Xincum, Nanjing, 210029, China

EBC Corporation, 701 Renner Road, Wilmington, DE 19810

(c) Thomas S. Fusco, Office of Unfair Import Investigations, U.S. International Trade Commission, 500 E Street, SW., Room 401-E, Washington, DC 20436, who shall be the Commission investigative attorney, party to this investigation; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received no later than 20 days after the date of service by the Commission of the complaint and notice of investigation. Extensions of time for submitting responses to the complaint will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

Issued: March 3, 2003.
By order of the Commission.
Marilyn R. Abbott,
Secretary to the Commission.

[FR Doc. 03-5332 Filed 3-5-03; 8:45 am]

BILLING CODE 7020-02-P